DEPARTMENT OF LABOR

Employment and Training Administration

[TA-W-37,839 and 839A]

Congoleum Corp., Trainer, PA and Mercerville, NJ; Amended Certification Regarding Eligibility to Apply for Worker Adjustment Assistance

In accordance with Section 223 of the Trade Act of 1974 (19 U.S.C. 2273) the Department of Labor issued a Notice of Certification Regarding Eligibility to Apply for Worker Adjustment Assistance on August 18, 2000, applicable to workers of Congoleum Corp., Trainer, Pennsylvania. The notice was published in the Federal Register on September 12, 2000 (65 FR 55050).

At the request of the petitioners, the Department reviewed the certification for workers of the subject firm. Information shows that worker separations occurred at the Plant #1, Mercerville, New Jersey location of Congoleum Corp. The workers are engaged in the production of vinyl flooring and examine, cut pack and ship flooring for all Congoleum's production facilities, including Trainer, Pennsylvania.

Accordingly, the Department is amending the certification to include workers of Congoleum Corp., Plant #1, Mercerville, New Jersey.

The intent of the Department's certification is to include all workers of Congoleum Corp. who are adversely affected by increased imports.

The amended notice applicable to TA-W-37,839 is hereby issued as follows:

“All workers of Congoleum Corp., Trainer, Pennsylvania (TA-W-37,839) and Plant #1, Mercerville, New Jersey (TA-W-37,839A) who became totally or partially separated from employment on or after June 15, 1999 through August 18, 2002 are eligible to apply for adjustment assistance under Section 223 of the Trade Act of 1974.”

Signed at Washington, D.C. this 4th day of October, 2000.
Linda G. Poole,
Certifying Officer, Division of Trade Adjustment Assistance.

[FR Doc. 00-26725 Filed 10-17-00; 8:45 am]

BILLING CODE 4510-30-M